DEPARTMENT OF TRANSPORTATION

Federal Motor Carrier Safety Administration

[Docket No. FMCSA-2023-0244]

Hours of Service: Denial of Application for Exemption; Arbert Ibraimi

AGENCY: Federal Motor Carrier Safety Administration (FMCSA), Department of Transportation (DOT).

ACTION: Notice of final disposition; denial of application for exemption.

SUMMARY: FMCSA announces its decision to deny the application of Mr. Arbert Ibraimi on behalf of GTLM Transport Inc. (GTLM), requesting an exemption from the requirement to use an electronic logging device (ELD) for maintaining driver records of duty status (RODS). FMCSA evaluated the application and public comments and determined that GTLM did not sufficiently demonstrate how its commercial motor vehicle (CMV) operations would likely achieve a level of safety that is equivalent to, or greater than, the level that would be achieved in the absence of the exemption.

FOR FURTHER INFORMATION CONTACT: Ms. Bernadette Walker, FMCSA Driver, and Carrier Operations Division; Office of Carrier, Driver and Vehicle Safety Standards; 202-385-2415; bernadette.walker@dot.gov.

SUPPLEMENTARY INFORMATION:

I. Public Participation

Viewing Comments and Documents

To view comments, go to www.regulations.gov, insert the docket number “FMCSA-2023-0244” in the keyword box, and click “Search.” Next, sort the results by “Posted (Newer—Older),” choose the first notice listed, click “Browse Comments.”

To view documents mentioned in this notice as being available in thein the docket, go to www.regulations.gov, insert docket number “FMCSA-2023-0244” in the keyword box, click “Search,” and choose the document to review.

If you do not have access to the internet, you may view the docket by visiting Docket Operations on the ground floor of the DOT West Building, 1200 New Jersey Avenue SE, Washington, DC 20590, between 9 a.m. and 5 p.m., ET, Monday through Friday, except Federal holidays. To be sure someone is there to help you, please call (202) 366-9317 or (202) 366-9826 before visiting Docket Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulation(s) Requirements

With limited exceptions, the HOS regulation at 49 CFR 395.8(a)(1)(i) requires motor carriers operating CMVs to install and require each of its drivers to use an ELD to record the driver's duty status.

Applicant's Request

GTLM requested a one-year exemption from the ELD requirement in 49 CFR 395.8(a)(1)(i). The applicant stated that it is a new business, operating a single CMV as an owner-operator, and has limited funds to support the purchase of an ELD. The applicant stated that it would use the funds saved from not purchasing and installing an ELD, to monitor the safety of operations and to incorporate safety management controls into its operation.

Applicant's Method To Ensure an Equivalent or Greater Level of Safety

GTLM stated that an equivalent or greater level of safety will be achieved under the exemption because, since the carrier is owner-operated, “the operational safety impact will be virtually identical and manageable.” GTLM also stated that funds that would be used to purchase and install an ELD could be invested in a safety management control system from which the company would benefit more in its initial stages (e.g., training on current safety topics.)

IV. Public Comments

On March 1, 2024, FMCSA published a notice of GTLM's application and requested public comments (89 FR 15258). The agency received a total of 122 comments: 62 in support, 32 in opposition, and 28 taking no position either for or against granting the exemption. Of the 62 comments in support of granting the exemption, five were from trucking companies. Commenters who supported granting the exemption expressed general opposition to ELDs. They stated that ELDs are too expensive, and they create a stressful environment for drivers who feel pressured to arrive at their destinations before running out of hours. Some commenters also stated that ELDs have made CMV operations less safe because they cause drivers to rush. Jimmy Haynes stated, “After 35 years of driving the elds are making drivers take unnecessary risks to maximize time. Instead of being able to take naps or breaks when needed the elds make you push through to situations you wouldn't normally.” RJ's Trucking & Logistics LLC stated, “I believe he should be exempt and the requirement should be discontinued. ELD does nothing but give brokers more power. Some use this as a way to fine you a load. If its [sic] about safety then why do some still let you get a load. There is nothing wrong with paper logs.”

Of the 24 comments filed opposing the exemption, six were from trucking companies. The commenters who opposed granting the exemption emphasized placing safety first. Joint comments filed by the Truck Safety Coalition, Citizens for Reliable and Safety Highways, and Parents Against Tired Truckers stated that safety “must be the top priority, not the last to be addressed with whatever funds remain available. Safety has a cost, and it must be paid by all industry stakeholders if meaningful progress will be made in reducing truck crash deaths and injuries.” John Bowlby stated, “This exemption should not be granted. ELDs make it harder for drivers to cheat. A new business tight on cash flow would be tempted to cheat to make more money.” Some commenters also cited the relatively low cost of ELDs. An anonymous commenter stated, “I pay $300 a year for ELD. If you can't afford that, how are you going to pay for safety related items. 1 tire costs more than that.”

V. FMCSA Safety Analysis and Decision

FMCSA evaluated GTLM's application and the public comments and denies the exemption request. GTLM failed to establish that it would likely achieve a level of safety equivalent to, or greater than, the level achieved without the exemption. ELDs help drivers more accurately track driving time to ensure compliance with HOS regulations, which are designed to help drivers maintain alertness while operating CMVs. Additionally, ELDs decrease the likelihood that the RODS could be altered after the date the records were generated, without leaving an electronic trail. For these reasons, and as discussed in the amended rulemaking proceedings that established the ELD requirements [80 FR 78292], the Agency believes the level of safety provided by the use of ELDs is likely greater than that provided by the use of paper logs as an alternative. GTLM did not propose safety countermeasures to compensate for the lower level of safety that paper logs entail. Economic difficulties, such as those that GTLM described, do not justify the granting of an exemption.

For the reasons stated, GTLM's exemption application is denied.

Vincent G. White,
Deputy Administrator.

[FR Doc. 2024-20931 Filed 9-13-24; 8:45 am]

BILLING CODE 4910-EX-P